FEDERAL COMMUNICATIONS COMMISSION

47 CFR Parts 1 and 76

[FCC 01-345]

Implementation of Interim Filing Procedures for Certain Commission Filings

AGENCY: Federal Communications Commission.

ACTION: Temporary procedural requirements.

SUMMARY: In this document, the Commission amends its procedures on an emergency, interim basis to require the filing or refiling of certain documents electronically (i.e., by facsimile or e-mail), by overnight delivery, or by hand delivery to the Commission's Capitol Heights, Maryland location. Due to recent events in Washington, DC, resulting in the unforeseeable and understandable disruption of regular mail delivery and of the processing of other deliveries, the Commission is unable to confirm receipt of certain Commission filings that may affect processing of applications and other urgent agency business. The intended effect of this action is to continue the timely processing of applications and other urgent agency business.

EFFECTIVE DATE: December 4, 2001.

FOR FURTHER INFORMATION CONTACT: Magalie Roman Salas at 202-418-0303.

SUPPLEMENTARY INFORMATION: This Order, adopted November 21, 2001, and released November 29, 2001, will be available for public inspection during regular business hours at the FCC Reference Information Center, Room CY-A257, at the Federal Communications Commission, 445 12th St., SW., Washington, DC 20554. The complete text is available through the Commission's duplicating contractor: Qualex International, Portals II, 445 12th Street, SW., Room CY-B402, Washington, DC 20554, telephone 202-863-2893, facsimile 202-863-2898, or via e-mail at qualexint@aol.com.

Synopsis of Order

1. Effective upon publication of this Order in the Federal Register and until further notice, the following types of pleadings shall be filed with the Commission electronically, by overnight delivery service, or by hand delivery: (i) petitions to deny filed pursuant to section 309 of the Communications Act of 1934, as amended (Act); (ii) petitions for reconsideration filed pursuant to section 405 of the Act; (iii) applications for review filed pursuant to section 5(c)(4) of the Act; (iv) informal requests for Commission action involving pending applications filed pursuant to § 1.41 of the Commission's rules; (v) petitions to amend the TV and FM Broadcast Table of Allotments and responsive pleadings; and, (vi) comments or oppositions to open video system certification made pursuant to § 76.1502 (e)(1) of the Commission's rules. The types of pleadings described in (i) through (vi) are referred to in this document as “Covered Pleadings.” The filing requirement described in this paragraph shall not apply to requests for review of decisions issued by the Universal Service Administrative Company (USAC) filed pursuant to §§ 54.719-54.725 of the Commission's rules, or any petitions for reconsideration or applications for review arising from such proceedings. As noted, these emergency procedures are adopted on a temporary basis only, and will be discontinued when normal U.S. Mail delivery resumes.

2. In order to assist the Commission in determining whether Covered Pleadings were filed during the period of interrupted processing, parties that have filed or will file Covered Pleadings from October 1, 2001 through and including the effective date of this Order are required to resubmit such pleadings electronically prior to 12:00 midnight Eastern Time on the seventh calendar day following the effective date of this Order, by hand delivery at the Capitol Heights, Maryland location, prior to 9:00 PM Eastern Time on the seventh calendar day following the effective date of this Order, or by overnight delivery service other than U.S. Postal Service Express and Priority Mail to the Commission's headquarters, prior to 5:30 PM Eastern Time on the seventh calendar day following the effective date of this Order. Three exceptions to these requirements are specified in paragraph 4. All refilings pursuant to this paragraph shall be accompanied by a signed affidavit or a declaration pursuant to Commission rule § 1.16 stating that the previously filed pleading was timely filed in accordance with Commission rules, the date the pleading was originally sent to the Commission, and by what means. Covered Pleadings submitted up to 7 calendar days following the effective date of this Order in a manner not consistent with its terms must be refiled in the same manner as Covered Pleadings filed before the effective date. Covered Pleadings filed in accordance with this paragraph will be treated as timely filed as of the date the pleading was originally sent to the Commission, but the time for any responsive pleading will be tied to the time of resubmission to the extent Commission rules set response periods based on the date of filing.

3. There are three exceptions to the filing requirements stated in paragraph 3. The first exception to the refiling requirement is for Covered Pleadings that were previously filed electronically in accordance with our rules. The second exception is for Covered Pleadings that were hand delivered to the Commission's headquarters at 445 12th Street, SW., Washington, DC, between October 1 and October 19, 2001, or to our Capitol Heights location in accordance with the public notices issued on October 17 and October 18, 2001. See Public Notice, “FCC Announces Change in Filing Location for Paper Documents,” DA 01-2436 (October 17, 2001); Public Notice, “FCC Announces Changes In Filing Procedures,” DA 01-2430 (October 17, 2001; Public Notice, “Clarification on FCC's Announced Changes in Filing Procedures,” DA 01-2451 (October 18, 2001). The third exception is for Covered Pleadings delivered to the Commission by overnight delivery services other than U.S. Postal Service Express and Priority Mail. Covered Pleadings falling within one of the three exceptions specified in this paragraph and pleadings not falling in the categories specified in paragraph 2 need not be resubmitted.

4. If filed electronically by e-mail, pleadings shall be filed at the following e-mail addresses depending on the Bureau or Office handling the matter:

Mass Media | MMBSecretary@fcc.gov
Wireless | WTBSecretary@fcc.gov
Common Carrier | CCBSecretary@fcc.gov
Cable Services | CSBSecretary@fcc.gov
International | IBSecretary@fcc.gov
Enforcement | EBSecretary@fcc.gov
Other | OtherSecretary@fcc.gov.

For security purposes, we recommend that documents filed via electronic mail be converted to PDF format. The Commission will automatically reply to all incoming e-mails to confirm receipt. If filed by facsimile, pleadings shall be faxed to 202-418-0187. The fax transmission should include a cover sheet listing contact name, phone number, and, if available, an e-mail address.

5. If filed by hand delivery, documents shall be delivered to 9300 East Hampton Drive, Capitol Heights, Maryland 20743 pursuant to the terms of our earlier October 17 and October 18, 2001 public notices. As stated in those public notices, all hand deliveries must be held together with rubber bands or fasteners. Any envelopes must be disposed of before entering the building.

6. If filed by overnight delivery service other than U.S. Postal Service Express and Priority Mail, filings must be received at the Commission's headquarters at 445 12th Street, SW., Washington, DC 20024. As noted in the October 17 and October 18, 2001 public notices, the Commission will divert those deliveries to the Capitol Heights facility. Documents filed under seal pursuant to § 0.457 or § 0.459 of the Commission's rules should be submitted by hand delivery or overnight delivery service to ensure confidential treatment under those rules.

7. Until further notice, parties filing Covered Pleadings electronically (either via electronic mail or facsimile) in accordance with the procedures set forth herein will not be required to file a paper original with the Office of the Secretary or the Capitol Heights, Maryland facility as described in our earlier October 17 and October 18, 2001 public notices.

8. Copies of all filings made pursuant to this Order should be provided to the Commission's duplicating contractor, Qualex International via e-mail at qualexint@aol.com. Copies of all filings and resubmitted filings must be served on parties to the extent service of such pleadings is required by Commission rules.

9. Failure to submit or resubmit pleadings in the manner set out by this Order will result in the waiver of any rights to have such pleading considered by the Commission if the Commission's decisional staff does not have the relevant pleadings before it at the time of its decision. Parties may file petitions for reconsideration regarding any decision made.

10. Accordingly, It Is Ordered that, pursuant to the authority of section 4(i) of the Communications Act of 1934, as amended, 47 U.S.C. 154 (i), the Commission ADOPTS the procedural requirements set forth in this Order and SUSPENDS any contrary requirements.

11. It Is Further Ordered that the Secretary is delegated authority to rule on requests for extensions of time based on operational problems associated with the Commission's electronic filing equipment.

Federal Communications Commission.
Magalie Roman Salas,
Secretary.

[FR Doc. 01-30028 Filed 12-3-01; 8:45 am]

BILLING CODE 6712-01-P